FEDERAL COMMUNICATIONS COMMISSION

Network Reliability and Interoperability Council

AGENCY: Federal Communications Commission.

ACTION: Notice of public meeting.

SUMMARY: In accordance with the Federal Advisory Committee Act, this notice advises interested persons of the first meeting of the Network Reliability and Interoperability Council (Council) under its charter renewed as of December 26, 2001. The meeting will be held at the Federal Communications Commission in Washington, DC.

DATES: Monday, March 22, 2002 at 10 a.m. to 1 p.m.

ADDRESSES: Federal Communications Commission, 445 12th St. SW, Room TW-C305, Washington, DC.

FOR FURTHER INFORMATION CONTACT: Jeffery Goldthorp at 202-418-1096 or TTY 202-418-2989.

SUPPLEMENTARY INFORMATION: The Council was established by the Federal Communications Commission to bring together leaders of the telecommunications industry and telecommunications experts from academic, consumer and other organizations to explore and recommend measures that would enhance network reliability.

The Council will discuss the modifications that have been made to the Council's charter and how those modifications should be addressed, and any additional issues that may come before it. The amended charter is attached to this document.

Members of the general public may attend the meeting. The Federal Communications Commission will attempt to accommodate as many people as possible. Admittance, however, will be limited to the seating available. The public may submit written comments before the meeting to Jeffery Goldthorp, the Commission's Designated Federal Officer for the Network Reliability and Interoperability Council, by email (jgoldtho@FCC.GOV) or U.S. mail (7-A325, 445 12th St. SW, Washington, DC 20554). Real Audio and streaming video Access to the meeting will be available at http://www.fcc.gov/

Federal Communications Commission.
William F. Caton,
Acting Secretary.

Charter of the Network Reliability and Interoperability Council

A. The Committee's Official Designation

The official designation of the advisory committee will be the “Network Reliability and Interoperability Council.”

B. The Committee's Objective and Scope of Its Activity

The purposes of the Committee are to give telecommunications industry leaders the opportunity to provide recommendations to the FCC and to the industry that, if implemented, would under all reasonably foreseeable circumstances assure optimal reliability and interoperability of wireless, wireline, satellite, and cable public telecommunications networks. This includes facilitating the reliability, robustness, security, and interoperability of public telecommunications networks. The scope encompasses recommendations that would ensure the security and sustainability of public telecommunications networks throughout the United States; ensure the availability of adequate public telecommunications capacity during events or periods of exceptional stress due to natural disaster, terrorist attacks or similar occurrences; and facilitating the rapid restoration of telecommunications services in the event of widespread or major disruptions in the provision of telecommunications services. The Committee will address topics in the following areas:

1. Homeland Security

(A) Prevention. The Committee will assess vulnerabilities in the public telecommunications networks and the Internet and determine how best to address those vulnerabilities to prevent disruptions that would otherwise result from terrorist activities, natural disasters, or similar types of occurrences.

(1) In this regard, the Committee will conduct a survey of current practices by wireless, wireline, satellite, and cable telecommunications services providers and Internet service providers that address the Homeland Defense concerns articulated above.

(2) By December 31, 2002 the Committee will issue a report identifying areas for attention and describing best practices, with checklists, that should be followed to prevent disruptions of public telecommunications services and the Internet from terrorist activities, natural disasters, or similar types of occurrences.

(B) Restoration. The Committee will report on current disaster recovery mechanisms, techniques, and best practices and develop any additional best practices, mechanisms, and techniques that are necessary, or desirable, to more effectively restore telecommunications services and Internet services disruptions arising from terrorist activities, natural disasters, or similar types of occurrences.

(1) The Committee will report on the viability of any past or present mutual aid agreements and develop, and report on, any additional perspectives that may be appropriate to facilitate effective telecommunications services restorations. The Committee will issue this report within six (6) months after its first meeting.

(2) The Committee will issue a report containing best practices recommendations, and recommended mechanisms and techniques (including checklists), for disaster recovery and service restoration. The Committee will issue this report within twelve (12) months of its first meeting.

(3) The Committee will prepare and institute mechanisms for maintaining and distributing contact information for telecommunications industry personnel who are, or may be, essential to effective telecommunications service and Internet restoration efforts within six (6) months of the first meeting of the Committee.

(C) Public Safety. The Committee will explore and report on such actions as may be necessary or desirable to ensure that commercial telecommunications services networks (including wireless, wireline, satellite, and cable public telecommunications networks) can meet the special needs of public safety emergency communications, including means to prioritize, as appropriate, public safety usage of commercial services during emergencies.

2. Network Reliability

(A) The Committee will prepare and provide recommended requirements for network reliability and network reliability measurements for wireline, wireless, satellite, and cable public telecommunications networks, and for reliability measurements for the Internet, for reporting within twelve (12) months of the Committee's first meeting.

(B) The Committee will evaluate, and report on, the reliability of public telecommunications network services in the United States, including the reliability of router, packet, and circuit-switched networks.

(C) During the charter of a previous Committee, interested participants recommended that the FCC adopt a voluntary reporting program in conjunction with the National Communications System, to gather outage data for those telecommunications and information service providers not currently required to report outages to the Commission, and voluntary reporting was initiated. The Committee shall: (i) analyze the data obtained from the voluntary trial; and (ii) report on the efficacy of that process and the information obtained therefrom.

(D) Should the Commission initiate an inquiry or rulemaking with respect to any of the above-mentioned issues, the Committee will make formal recommendations as a part of such proceeding(s).

3. Network Interoperability

The Committee will prepare analyses and, where appropriate, make recommendations for improving interoperability among networks to achieve the objectives that are contained in Section 256 of the Telecommunications Act of 1996, with particular emphasis on ensuring “the ability of users and information providers to seamlessly and transparently transmit and receive information between and across telecommunications networks.”

4. Broadband Deployment

The Committee will make recommendations concerning the need for technical standards to ensure the compatibility and deployment of broadband technologies and services, and will evaluate the need for improvements in the reliability of broadband technologies and services.

5. Other Topics

(A) The Committee will make recommendations with respect to such additional topics as the Commission may specify. These topics may include requests for recommendations and technical advice on interoperability issues that may arise from convergence and digital packet networks, and how the Commission may best fulfill its responsibilities, particularly with respect to national defense and safety of life and property (including law enforcement) under the Communications Act.

(B) The Committee will assemble data and other information, perform analyses, and provide recommendations and advice to the Federal Communications Commission and the telecommunications industry concerning the foregoing.

C. Period of Time Necessary for the Committee To Carry Out Its Purpose

The Committee will require two years to carry out the purposes for which it has created.

D. Official to Whom the Committee Reports

The Committee will report to the Chairman, Federal Communications Commission.

E. Agency Responsible for Providing Necessary Support

The Federal Communications Commission will provide the necessary support for the Committee, including the facilities needed for the conduct of the meetings of the committee. Private sector members of the committee will serve without any government compensation and will not be entitled to travel expenses or per diem or subsistence allowances.

F. Description of the Duties for Which the Committee Is Responsible

The duties of the Committee will be to gather the data and information necessary to prepare studies, reports, and recommendations for assuring optimal network reliability and restoration of damaged, or impaired, telecommunications services within the parameters set forth in Section B, above. The Committee will also monitor future developments to ensure that network interoperability and network reliability are not at risk.

G. Estimated Annual Operating Costs in Dollars and Staff Years

Estimated staff years that will be expended by the Committee are three (3) for the FCC staff and 12 for private sector and other governmental representatives. The estimated annual cost to the FCC of operating the committee is $200,000.

H. Estimated Number and Frequency of Committee Meetings

The Committee will meet at least two times per year. Informal subcommittees may meet more frequently to facilitate the work of the Committee.

I. Committee's Termination Date

The Committee will terminate January 6, 2004.

J. Date Original Charter Filed

January 6, 1992.

[FR Doc. 02-3696 Filed 2-14-02; 8:45 am]

BILLING CODE 6712-01-P